DEPARTMENT OF COMMERCE

National Oceanic and Atmospheric Administration

Agency Information Collection Activities; Submission to the Office of Management and Budget (OMB) for Review and Approval; Comment Request; Aleutian Islands Pollock Fishery Requirements

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 9, 2021.

ADDRESSES: Interested persons are invited to submit written comments to Adrienne Thomas, NOAA PRA Officer, at Adrienne.thomas@noaa.gov. Please reference OMB Control Number 0648-0513 in the subject line of your comments. Do not submit Confidential Business Information or otherwise sensitive or protected information.

FOR FURTHER INFORMATION CONTACT: Requests for additional information or specific questions related to collection activities should be directed to Gabrielle Aberle (907) 586-7356.

SUPPLEMENTARY INFORMATION:

I. Abstract

The National Marine Fisheries Service (NMFS), Alaska Regional Office, is requesting renewal of a currently approved information collection that contains the requirements for the annual participant letter for the Aleutian Islands pollock fishery.

Amendment 82 to the Fishery Management Plan for Groundfish of the Bering Sea and Aleutian Islands Management Area (FMP) established a framework for the management of the Aleutian Islands subarea (AI) directed pollock fishery. The Aleut Corporation receives an annual AI pollock allocation for the purpose of economic development in Adak, Alaska. The Aleut Corporation is identified in Public Law 108-199 as a business incorporated pursuant to the Alaska Native Claims Settlement Act (43 U.S.C. 1601 et seq.). Regulations implementing the FMP appear at 50 CFR part 679.

The Aleut Corporation's AI pollock fishery is set up so that harvesting pollock in the AI directed pollock fishery and processing pollock taken in the AI directed pollock fishery are authorized only for those harvesters and processors that are selected by the Aleut Corporation and approved by the NMFS Regional Administrator.

Each year and at least 14 days before harvesting pollock or processing pollock in the AI directed pollock fishery, the Aleut Corporation must submit its selections to NMFS. The information submitted by the Aleut Corporation consists of the names of the harvesting vessels and processors it has selected, the Federal fisheries permit numbers or Federal processor permit numbers of the participants, and the fishing year for which approval is requested.

On approval, NMFS sends the Aleut Corporation a letter that includes a list of the approved participants. A copy of this letter must be retained on board each participating vessel and on site at each shoreside processor at all times.

This information collection is necessary for NMFS to obtain the list of vessels and processors selected by the Aleut Corporation to harvest and process its annual AI pollock allocation. The Aleut Corporation is required by Federal regulations at 50 CFR 679.4(m)(2) to provide its selected harvesters and processors to NMFS for approval. Without this information, NMFS would not know the participants selected by the Aleut Corporation and harvest rates could not be determined, which may result in allocations being exceeded.

II. Method of Collection

The Aleut Corporation submits the participant letter to NMFS by mail, email, or fax.

III. Data

OMB Control Number: 0648-0513.

Form Number(s): None.

Type of Review: Regular submission (extension of a current information collection).

Affected Public: Business or other for-profit organizations.

Estimated Number of Respondents: 1.

Estimated Time per Response: Annual Aleutian Islands Fishery Participant Letter, 16 hrs.

Estimated Total Annual Burden Hours: 16 hrs.

Estimated Total Annual Cost to Public: $5.

Respondent's Obligation: Required to Obtain or Retain Benefits.

Legal Authority: Consolidated Appropriations Act of 2004; Magnuson-Stevens Fishery Conservation and Management Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-12002 Filed 6-7-21; 8:45 am]

BILLING CODE 3510-22-P